DEPARTMENT OF TRANSPORTATION

Federal Aviation Administration

Notice of Intent To Rule on Application 00-02-C-00-FOD To Impose and Use the Revenue From a Passenger Facility Charge (PFC) at Fort Dodge Regional Airport, Fort Dodge, IA

AGENCY: Federal Aviation Administration, (FAA), DOT.

ACTION: Notice of Intent To Rule on Application.

SUMMARY: The FAA proposes to rule and invites public comment on the application to impose and use the revenue from a PFC at Fort Dodge Regional Airport under the provisions of the Aviation Safety and Capacity Expansion Act of 1990 (Title IX of the Omnibus Budget Reconciliation Act of 1990) (Public Law 101-508) and Part 158 of the Federal Aviation Regulations (14 CFR Part 158).

DATES: Comments must be received on or before October 20, 2000.

ADDRESSES: Comments on this application may be mailed or delivered in triplicate to the FAA at the following address: Federal Aviation Administration, Central Region, Airports Division, 901 Locust, Kansas City, MO 64106.

In addition, one copy of any comments submitted to the FAA must be mailed or delivered to Ms. Rhonda Chambers, Airport Manager, Fort Dodge Regional Airport, at the following address: R.R. 2, Fort Dodge, IA 50501.

Air carriers and foreign air carriers may submit copies of written comments previously provided to the Fort Dodge Regional Airport, under section 158.23 of Part 158.

FOR FURTHER INFORMATION CONTACT: Mark Schenkelberg, FAA, Central Region, 901 Locust, Kansas City, MO 64106, (816) 329-2645. The application may be reviewed in person at this same location.

SUPPLEMENTARY INFORMATION: The FAA proposes to rule and invites public comment on the application to impose and use the revenue from a PFC at Fort Dodge Regional Airport under the provisions of the Aviation Safety and Capacity Expansion Act of 1990 (Title IX of the Omnibus Budget Reconciliation Act of 1990) (Public Law 101-508) and Part 158 of the Federal Aviation Regulations (14 CFR Part 158).

On August 24, 2000, the FAA determined that the application to impose and use the revenue from a PFC submitted by the Fort Dodge Regional Airport, Fort Dodge, Iowa, was substantially complete within the requirements of section 158.25 of Part 158. The FAA will approve or disapprove the application, in whole or in part, no later than November 10, 2000.

The following is a brief overview of the application.

Level of the proposed PFC: $3.00.

Proposed charge effective date: February 1, 2001.

Proposed charge expiration date: December 1, 2001.

Total estimated use revenue: $19,896.

Total estimated impose revenue: $19,896.

Brief description of proposed project(s): Mark and Groove Runway 6/24, Update Airport Master Plan.

Any person may inspect the application in person at the FAA office listed above under FOR FURTHER INFORMATION CONTACT.

In addition, any person may, upon request, inspect the application, notice and other documents germane to the application in person at the Fort Dodge Regional Airport.

Issued in Kansas City, Missouri on August 28, 2000.
George A. Hendon,
Manager, Airports Division, Central Region.

[FR Doc. 00-24149 Filed 9-19-00; 8:45 am]

BILLING CODE 4910-13-M